DEPARTMENT OF HEALTH AND HUMAN SERVICES

Health Resources and Services Administration

Renewal of Charter for the Advisory Commission on Childhood Vaccines

AGENCY: Health Resources and Services Administration, HHS.

ACTION: Notice.

SUMMARY: The Department of Health and Human Services is hereby giving notice that the Advisory Commission on Childhood Vaccines (ACCV) has been rechartered. The effective date of the renewed charter is July 21, 2016.

FOR FURTHER INFORMATION CONTACT: Narayan Nair, MD, MPH, Executive Secretary, Advisory Commission on Childhood Vaccines, Health Resources and Services Administration, Department of Health and Human Services, Room 08N146B, 5600 Fishers Lane, Rockville, MD 20857. Phone: (301) 443-6593; fax: (301) 44-8196; email: nnair@hrsa.gov.

SUPPLEMENTARY INFORMATON: The ACCV was established by section 2119 of the Public Health Service Act (the Act) (42 U.S.C. 300aa-19), as enacted by Public Law (Pub. L.) 99-660, and as subsequently amended, and advises the Secretary of Health and Human Services (the Secretary) on issues related to implementation of the National Vaccine Injury Compensation Program (VICP). Other activities of the ACCV include: Recommending changes in the Vaccine Injury Table at its own initiative or as the result of the filing of a petition; advising the Secretary in implementing section 2127 of the Act regarding the need for childhood vaccination products that result in fewer or no significant adverse reactions; surveying federal, state, and local programs and activities related to gathering information on injuries associated with the administration of childhood vaccines, including the adverse reaction reporting requirements of section 2125(b) of the Act; advising the Secretary on the methods of obtaining, compiling, publishing, and using credible data related to the frequency and severity of adverse reactions associated with childhood vaccines; consulting on the development or revision of Vaccine Information Statements; and recommending to the Director of the National Vaccine Program research related to vaccine injuries which should be conducted to carry out the VICP.

On July 21, 2016, the ACCV charter was renewed. Renewal of the ACCV charter gives authorization for the Commission to operate until July 21, 2018.

A copy of the ACCV charter is available on the ACCV Web site at http://www.hrsa.gov/advisorycommittees/childhoodvaccines/index.html. A copy of the charter also can be obtained by accessing the FACA database that is maintained by the Committee Management Secretariat under the General Services Administration. The Web site address for the FACA database is http://www.facadatabase.gov/.

Jason E. Bennett,
Director, Division of the Executive Secretariat.

[FR Doc. 2016-25857 Filed 10-25-16; 8:45 am]

BILLING CODE 4165-15-P